DEPARTMENT OF TRANSPORTATION

Office of the Secretary

Aviation Proceedings, Agreements Filed During the Week Ending February 11, 2000

The following Agreements were filed with the Department of Transportation under the provisions of 49 U.S.C. Sections 412 and 414. Answers may be filed within 21 days after the filing of the application.

Docket Number: OST-2000-6872.

Date Filed: February 7, 2000.

Parties: Members of the International Air Transport Association.

Subject: PTC COMP 0571 dated 4 February 2000; Mail Vote 061—Resolution 010u; Special Passenger Amending Resolution from Viet Nam; Intended effective date 1 April 2000.

Docket Number: OST-2000-6879.

Date Filed: February 8, 2000.

Parties: Members of the International Air Transport Association.

Subject: PTC23 EUR-SASC 0059 dated 28 January 2000; TC23 Europe-South Asian Subcontinent Expedited Resolution 002jj; Intended effective date: 15 March 2000.

Docket Number: OST-2000-6891.

Date Filed: February 9, 2000.

Parties: Members of the International Air Transport Association.

Subject: PTC12 MEX-EUR 0029 dated 8 February 2000; TC12 Mexico-Europe Expedited Resolutions r1-r3; Intended effective date: 15 March 2000.

Docket Number: OST-2000-6893.

Date Filed: February 9, 2000.

Parties: Members of the International Air Transport Association.

Subject: PTC COMP 0578 dated 11 February 2000; Mail Vote 062—Resolution 005aa (New); Special Implementation Provisions; Standard Foreign Fare Level (SFFL); USA/US Territories; Intended effective date: 1 March 2000.

Docket Number: OST-2000-6929.

Date Filed: February 11, 2000.

Parties: Members of the International Air Transport Association.

Subject: PTC23 EUR-SASC 0061 dated 4 February 2000; Europe-South Asian Subcontinent Resolutions r1-r18; Minutes—PTC23 EUR-SASC 0060 dated 4 February 2000; Tables—PTC23 EUR-SASC FARES 0018 dated 8 February 2000; Intended effective date 1 April 2000.

Dorothy W. Walker,
Federal Register Liaison.

[FR Doc. 00-4343 Filed 2-23-00; 8:45 am]

BILLING CODE 4910-62-P